COMMODITY FUTURES TRADING COMMISSION

Sunshine Act Meetings

Agency Holding the Meeting: Commodity Futures Trading Commission (Commission).

Dates and Time: Tuesday, July 28, 2009, Wednesday, July 29, 2009 and Wednesday, August 5, 2009, commencing each day at 9 a.m. and ending at 1 p.m.

Place: Three Lafayette Center, 1155 21st St., NW., Washington, DC, Lobby Level Hearing Room (Room 1000).

Status: Open.

Matters To Be Considered: Public hearings to examine Federal position limits, particularly as related to the energy markets, and hedge exemptions on regulated futures exchanges, derivatives transaction execution facilities and electronic trading facilities with respect to a significant price discovery contract.

Contact Persons and Addresses: Written materials should be mailed to the Commodity Futures Trading Commission, Three Lafayette Center, 1155 21st Street, NW., Washington, DC 20581, attention Office of the Secretariat; transmitted by facsimile at 202-418-5521; or transmitted electronically to [secretary@cftc.gov].

Reference should be made to “position limits and hedge exemptions.” For substantive questions, please contact Sauntia Warfield, 202-518-5084.

SUPPLEMENTARY INFORMATION: The Commission is undertaking a review of issues related to Federal position limits and hedge exemptions on regulated futures exchanges, derivatives transaction execution facilities and electronic trading facilities with respect to a significant price discovery contract. In furtherance of that review, the Commission hereby announces that it will hold public hearings on Tuesday, July 28, 2009, Wednesday, July 29, 2009 and Wednesday, August 5, 2009 from 9 a.m. to 1 p.m. each day, at the Commission headquarters in Washington, DC. At these hearings the Commission will have oral presentations by panels of witnesses representing segments of the futures market participants and academics. Members of Congress also are expected to present their views.

These hearings will generally focus on a number of issues, including: the application of federal speculative position limits to address the burdens of excessive speculation; how such limits should be structured; how such limits should be set; the aggregation of positions across different markets; and the types of exemptions, if any, that should be permitted.

A transcript of the hearing will be made and entered into the Commission's public comment files, which will remain open for the receipt of written comments until August 12, 2009.

Issued in Washington, DC, on July 17, 2009, by the Commission.
David Stawick,
Secretary of the Commission.

[FR Doc. E9-17421 Filed 7-17-09; 4:15 pm]

BILLING CODE 6351-01-P